AGENCY FOR INTERNATIONAL DEVELOPMENT

Office of Inspector General; Senior Executive Services (SES) Performance Review Board: Update

ACTION: Notice.

SUMMARY: This notice is hereby given of the appointment of members of the updated USAID OIG SES Performance Review Board.

DATES: September 3, 2009.

FOR FURTHER INFORMATION CONTACT: Paula F. Hayes, Assistant Inspector General for Management, Office of Inspector General, U.S. Agency for International Development, 1300 Pennsylvania Avenue, NW., Room 8.08-029, Washington, DC 20523-8700; telephone 202-712-0010; FAX 202-216-3392; Internet E-mail address: phayes@usaid.gov (for E-mail messages, the subject line should include the following reference—USAID OIG SES Performance Review Board).

SUPPLEMENTARY INFORMATION: 5 U.S.C. 4314 (b) (c) requires each agency to establish, in accordance with regulations prescribed by the Office of Personnel Management at 5 CFR part 430, subpart C and section 430.307 thereof in particular, one or more Senior Executive Service Performance Review Boards. The board shall review and evaluate the initial appraisal of each USAID OIG senior executive's performance by his or her supervisor, along with any recommendations to the appointing authority relative to the performance of the senior executive. This notice updates the membership of the USAID OIG's SES Performance Review Board as it was last published on October 1, 2008.

Approved: September 3, 2009.

The following have been selected as regular members of the SES Performance Review Board of the U.S. Agency for International Development, Office of Inspector General:

Michael G. Carroll, Deputy Inspector General.

Adrienne Rish, Assistant Inspector General for Investigations.

Paula F. Hayes, Assistant Inspector General for Management.

Lisa S. Goldfluss, Legal Counsel.

Alvin A. Brown, Assistant Inspector General, Millennium Challenge Corporation.

Melinda Dempsey, Deputy Assistant Inspector General for Audit.

Howard I. Hendershot, Deputy Assistant Inspector General for Investigations.

Winona Varnon, Director, Security Services, Department of Education.

Pauline K. Brunelli, Director, Federal Voting Assistance Program Department of Defense.

Edward Blansitt, Deputy Assistant Inspector General for Audit, Department of Commerce.

Mark Bialek, Counsel to the Inspector General, Environmental Protection Agency.

Theodore P. Alves, Assistant Inspector General Financial Information, Department of Transportation.

Dated: September 9, 2009.
Donald A. Gambatesa,
Inspector General.

[FR Doc. E9-22637 Filed 9-21-09; 8:45 am]

BILLING CODE 6116-01-P